FEDERAL COMMUNICATIONS COMMISSION

[DA 08-2090]

DIRS Reporting Data To Be Shared With Federal ESF-2 Agencies

AGENCY: Federal Communications Commission.

ACTION: Notice.

SUMMARY: This document announces that, in all future Disaster Information Reporting System (DIRS) activations, the Federal Communications Commission (FCC or Commission) will share DIRS data with the National Communications System (NCS) as well as with other Federal agencies authorized to participate in Emergency Support Function 2 (ESF-2) activities.

DATES: On September 11, 2008, the Commission announced that it will share DIRS reporting data with all other Federal ESF-2 agencies.

ADDRESSES: Federal Communications Commission, 445 12th Street, SW., Room TW-325, Washington, DC 20554.

FOR FURTHER INFORMATION CONTACT: Jeffery Goldthorp, Chief Communications Systems Analysis Division, Public Safety and Homeland Security Bureau, Federal Communications Commission at (202) 418-1096 or Jeffery.Goldthorp@fcc.gov.

SUPPLEMENTARY INFORMATION: This is a summary of the Public Safety & Homeland Security Bureau's Public Notice, DA 08-2090, released on September 11, 2008. The complete text of this document is available for inspection and copying during normal business hours in the FCC Reference Information Center, CY-A257, Washington, DC 20554. This document may also be purchased from the Commission's duplicating contractor, Best Copy and Printing, Inc., in person at 445 12th Street, SW., Room CY-B402, Washington, DC 20554, via telephone at (202) 488-5300, via facsimile at (202) 488-5563, or via e-mail at FCC@BCPIWEB.COM. Alternative formats (computer diskette, large print, audio cassette, and Braille) are available to persons with disabilities by sending an e-mail to FCC504@fcc.gov or calling the Consumer and Government Affairs Bureau at (202) 418-0530, TTY (202) 418-0432. This document is also available on the Commission's Web site at http://www.fcc.gov.

Synopsis of the Public Notice

On September 11, 2007, the Public Safety and Homeland Security Bureau (PSHSB) of the Federal Communications Commission (FCC or Commission) launched the Disaster Information Reporting System (DIRS), a voluntary, efficient, Web-based system that communications companies, including wireless, wireline, broadcast and cable providers, can use to report communications infrastructure status and situational awareness information during times of crisis. In the event of a DIRS activation, participating communications providers that serve areas affected by a disaster voluntarily submit information regarding, inter alia, the status of their communications equipment, restoration efforts, power (i.e., whether they are using commercial power, generator or battery), and access to fuel. The Commission then compiles this data into reports which it shares with the National Communications System (NCS) in support of NCS's role as the primary agency for Emergency Support Function-2 (ESF-2) (Communications) of the National Response Framework. Because the information that communications companies input into DIRS is sensitive, for national security and/or commercial reasons, DIRS filings are non-public, and are considered presumptively confidential upon filing.

DIRS has had its initial activations during this 2008 hurricane season, first in response to Tropical Storm Fay, and then in response to Hurricane Gustav. In both cases, the information collected by DIRS was of significant value. It has become evident that sharing the data with other Federal government agencies involved in ESF-2 functions directly would enhance the value of DIRS by streamlining the reporting process and facilitating the accurate assessment of any damage to carrier infrastructure and the rapid restoration of that infrastructure. Accordingly, in future DIRS activations, the FCC will share DIRS data with NCS as well as with other Federal agencies authorized to participate in ESF-2 activities. The distribution of DIRS data to Federal agencies involved in ESF-2 does not alter the presumptively confidential nature of DIRS filings. DIRS data will remain non-public, and any Federal agency to which DIRS data is distributed must, under Federal law, respect the confidential nature of DIRS filings. See 44 U.S.C. 3510. The Commission's decision to enhance the value of DIRS by expanding its reach to all Federal government agencies on the ESF-2 team is a further example of the Commission's commitment to promoting the safety of life and property through the use of wire and radio communication, as required by the Communications Act of 1934, as amended, as well as to ensuring the continued effectiveness of ESF-2 and the National Response Framework.

Federal Communications Commission.
Derek K. Poarch,
Chief, Public Safety & Homeland Security Bureau.

[FR Doc. E8-22806 Filed 9-26-08; 8:45 am]

BILLING CODE 6712-01-P